GENERAL SERVICES ADMINISTRATION

Privacy Act of 1974; Republication of a System of Records Notice

AGENCY: General Services Administration.

ACTION: Notice of an updated system of records subject to the Privacy Act of 1974.

SUMMARY: The General Services Administration (GSA) is updating and republishing a notice for the existing system of records, Personnel Information Resources System (PIRS), GSA/PPFM-8, which is being renamed the Comprehensive Human Resources Integrated System (CHRIS) and updated to reflect organizational and address changes and upgraded automated processes. The revisions are minor in nature and do not meet the criteria of the Office of Management and Budget (OMB) for a revised system of records requiring an advance period for public comment as described in OMB Circular A-130, Appendix 1.

DATES: The notice is effective April 15, 2003.

FOR FURTHER INFORMATION CONTACT: The GSA Privacy Act Officer. Telephone: (202) 501-1452. Address: Office of the Chief People Officer (C), General Services Administration, 1800 F Street NW., Washington DC 20405.

Dated: April 2, 2003.
Daniel K. Cooper,
Director, Information, Management Division.

GSA/PPFM-8

System name:

Comprehensive Human Resources Integrated System (CHRIS).

System location:

The record system is located on a web-based application used by GSA Services and Staff Offices, commissions, and small agencies serviced by GSA, at the addresses below:

• GSA Central Office, 1800 F Street NW, Washington DC 20405.

• National Capital Region, 7th & D Streets SW, Washington, DC 20407.

• New England Region, 10 Causeway Street, Boston MA 02222.

• Northeast and Caribbean Region, 26 Federal Plaza, New York NY 10278.

• Mid-Atlantic Region, 20 N. Eighth Street, Philadelphia PA 19107.

• Southeast Sunbelt Region, 401 West Peachtree Street, Atlanta GA 30365.

• Great Lakes Region, 230 South Dearborn Street, Chicago IL 60604.

• The Heartland Region, 1500 East Bannister Road, Kansas City MO 64131. • Greater Southwest Region, 819 Taylor Street, Fort Worth TX 76102.

• Pacific Rim Region, 450 Golden Gate Avenue, San Francisco CA 95102.

Categories of individuals covered by the system:

Current and former employees of GSA and of commissions, committees, and small agencies serviced by GSA, including persons in intern, youth employment, and work-study programs.

Categories of records in the system:

The system contains personnel records. The records include information collected by operating officials and personnel officials administering programs for or about employees. The system has data needed to update the Central Personnel Data File (CPDF) at the Office of Personnel Management (OPM) and to process and document personnel actions. It may include, but is not limited to, the data maintained in each employee's Official Personnel Folder, including:

a. Employee's name, Social Security Number, date of birth, gender, work schedule, type of appointment, education, veteran's preference, military service, and race or national origin.

b. Employee's service computation date for leave, date probationary period began, and date of performance rating.

c. Pay data such as pay plan, occupational series, grade, step, salary, and organizational location.

d. Performance rating and types and amounts of awards.

e. Position description number, special employment program, and target occupational series and grade.

Authority for maintaining the system:

5 U.S.C., pt. III, is the authority for maintaining personnel information. Authorities for recording Social Security Numbers are E.O. 9397, 26 CFR 31.6011(b)2, and 26 CFR 31.6109-1.

Purpose(s):

To maintain a computer-based information system supporting the day-to-day operating needs of human resources operations and management. The system is designed to meet information and statistical needs of all types of Government organizations and provides a number of outputs.

For the Office of the Chief People Officer, the system produces personnel actions, organization rosters, retention registers, retirement calculations, reports of Federal civilian employment, employee master record printouts, length-of-service lists, award lists, etc. It also provides reports for monitoring personnel actions to determine the impact of GSA policies and practices on minorities, women, and disabled persons and analyzing their status in the work force; and for establishing affirmative action goals and timetables.

The system also provides management data for administrative and staff offices.

Routine uses of the records maintained in the system, including categories of users and the purposes of such uses:

The information in the system is used by GSA associates in the performance of their official duties as authorized by law and regulation and for the following routine uses:

a. To disclose information to the Office of Personnel Management (OPM) for the Central Personnel Data File (CPDF).

b. To disclose information to sources outside GSA including other agencies and persons for employees seeking employment elsewhere; and for documenting adverse actions, conducting counseling sessions, and preparing biographical sketches on employees for release to other agencies and persons.

c. To disclose information in the personnel file to GSA's Office of the Chief People Officer.

d. To disclose information to agency staff and administrative offices who may restructure the data for management purposes.

e. To disclose information to a Federal, State, local, or foreign agency responsible for investigating, prosecuting, enforcing, or carrying out a statute, rule, regulation, or order, where GSA becomes aware of a violation or potential violation of civil or criminal law or regulation.

f. To disclose information to a requesting Federal agency in connection with hiring or retaining an employee, issuing a security clearance, reporting an employee investigation, clarifying a job, letting a contract, or issuing a license, grant, or other benefit by the requesting agency where the information is needed for a decision.

g. To disclose information to a congressional office in response to a request from the person who is the subject of the record.

h. To disclose information to the Office of Management and Budget for reviewing private relief legislation during the clearance process.

i. To disclose information to OPM under the agency's responsibility for evaluating Federal personnel management.

j. To disclose information under the routine uses listed in the OPM record system OPM/GOVT-1. When official personnel records in the custody of GSA are covered in a system of records published by OPM as Governmentwide records, they are considered part of that system. Other official personnel records covered by notices published by GSA are considered separate systems of records and may be transferred to OPM under official personnel programs and activities as a routine use.

Policies and practices for storing, retrieving, reviewing, retaining, and disposing of records in the system:

Storage:

Computer records are stored in a secure server and accessed over the web using encryption software. Paper records, when created, are kept in file folders and cabinets in secure rooms.

Retrievability:

Records are retrieved by name or by Social Security Number.

Safeguards:

Computer records are protected by a password system. Paper output is stored in locked metal containers or in secured rooms when not in use. Information is released to authorized officials based on their need to know.

Retention and disposal:

Records are disposed of by shredding or burning as scheduled in the handbook, GSA Records Maintenance and Disposition System (OAD P 1820.2).

System manager(s) and address:

CHRIS Program Manager (CID), Office of the Chief Information Officer, Office of the Chief People Officer, General Services Administration, 1800 F Street NW., Washington DC 20405.

Notification procedure:

Address inquiries to: Director of Human Resources (CP), Office of the Chief People Officer, General Services Administration, 1800 F Street NW., Washington DC 20405; or, for regional personnel records, to the regional Human Resources Officer at the addresses listed above under System Location.

Records access procedures:

Address requests to view or copy a record to one of the officials listed in the notification procedure above. For written requests, provide full name, Social Security Number, address, telephone number, and approximate date and place of employment.

Contesting record procedures:

Rules for contesting the content of a record and appealing a decision are contained in 41 CFR 105-64.

Record source categories:

The sources for the system information are the individuals themselves, other employees, supervisors, management officials, officials of other agencies, and record systems GSA/HRO-37, OPM/GOVT-1, and EEOC/GOVT-1.

[FR Doc. 03-9141 Filed 4-14-03; 8:45 am]

BILLING CODE 6820-34-P